DEPARTMENT OF ENERGY

Orders Granting Authority To Import and Export Natural Gas, To Import and Export Liquefied Natural Gas, To Vacate Authority, and Errata During June 2016

| FE Docket Nos.
BARCLAYS BANK PLC | 16-127-NG.
FLINT HILLS RESOURCES, LP | 15-169-LNG.
PAA NATURAL GAS STORAGE ULC | 16-53-NG.
FLINT HILLS RESOURCES, LP | 15-168-LNG.
HOUSTON PIPE LINE COMPANY LP | 16-62-NG.
BG ENERGY MERCHANTS, LLC | 16-74-NG.
SOUTHWEST ENERGY, L.P | 16-64-NG.
IMPERIAL IRRIGATION DISTRICT | 16-69-NG.
BP CANADA ENERGY MARKETING CORP | 16-68-NG.
PENGROWTH ENERGY MARKETING CORPORATION | 16-73-NG.
NEXEN ENERGY MARKETING U.S.A. INC | 16-70-NG.
MERCURIA ENERGY AMERICA, INC | 16-71-NG.
CONCORD ENERGY LLC | 16-77-NG.
BP ENERGY COMPANY | 16-72-LNG.
UNION GAS LIMITED | 16-79-NG.
CONCORD ENERGY LLC | 16-80-NG.
ENERGY SOURCE NATURAL GAS INC | 16-75-NG.
ST. LAWRENCE GAS COMPANY, INC | 16-76-NG.
J. ARON & COMPANY | 16-82-NG.
INFINITE ENERGY, INC | 16-81-NG.
MORGAN STANLEY CAPITAL GROUP INC | 16-84-NG.

AGENCY: Office of Fossil Energy, Department of Energy.

ACTION: Notice of orders.

SUMMARY: The Office of Fossil Energy (FE) of the Department of Energy gives notice that during June 2016, it issued orders granting authority to import and export natural gas, to import and export liquefied natural gas (LNG), to vacate authority, and errata. These orders are summarized in the attached appendix and may be found on the FE Web site at http://energy.gov/fe/listing-doefe-authorizationsorders-issued-2016.

They are also available for inspection and copying in the U.S. Department of Energy (FE-34), Division of Natural Gas Regulation, Office of Regulation and International Engagement, Office of Fossil Energy, Docket Room 3E-033, Forrestal Building, 1000 Independence Avenue SW., Washington, DC 20585, (202) 586-9478. The Docket Room is open between the hours of 8:00 a.m. and 4:30 p.m., Monday through Friday, except Federal holidays.

Issued in Washington, DC, on July 19, 2016.
John A. Anderson,
Director, Office of Regulation and International Engagement, Office of Oil and Natural Gas.

APPENDIX

DOE/FE ORDERS GRANTING IMPORT/EXPORT AUTHORIZATIONS

Order No. | Date | Docket No. | Company | Description
3706-A | 06/09/16 | 15-127-NG | Barclays Bank Plc | Order 3706-A vacating Order 3706 granting blanket authority to import natural gas from Canada.
3822 | 06/13/16 | 15-169-LNG | Flint Hills Resources, LP | Order 3822 granting blanket authority to export LNG to Free Trade Agreement Countries by truck, rail, barge, and non-barge waterborne vessels.
3828-A | 06/16/16 | 16-53-NG | PAA Natural Gas Storage ULC | Order 3828-A vacating Order 3828 granting blanket authority to import/export natural gas from/to Canada.
3829-Errata | 06/06/16 | 15-168-LNG | Flint Hills Resources, LP | Errata adding API as intervenor.
3834-A | 06/27/16 | 16-62-NG | Houston Pipe Line Company LP | Order 3834-A vacating Order 3834 granting blanket authority to import/export natural gas from/to Mexico.
3841 | 06/09/16 | 16-74-NG | BG Energy Merchants, LLC | Order 3841 granting blanket authority to import/export natural gas from/to Canada/Mexico.
3842 | 06/09/16 | 16-64-NG | Southwest Energy, L.P | Order 3842 granting blanket authority to import/export natural gas from/to Canada/Mexico.
3843 | 06/09/16 | 16-69-NG | Imperial Irrigation District | Order 3843 granting blanket authority to import/export natural gas from/to Mexico.
3844 | 06/09/16 | 16-68-NG | BP Canada Energy Marketing Corp | Order 3844 granting blanket authority to import/export natural gas from/to Canada.
3845 | 06/09/16 | 16-73-NG | Pengrowth Energy Marketing Corporation | Order 3845 granting blanket authority to import natural gas from Canada.
3847 | 06/10/16 | 16-70-NG | Nexen Energy Marketing U.S.A. Inc | Order 3847 granting blanket authority to import/export natural gas from/to Canada/Mexico.
3848 | 06/10/16 | 16-71-NG | Mercuria Energy Marketing, Inc | Order 3848 granting blanket authority to import/export natural gas from/to Canada/Mexico.
3849 | 06/13/16 | 16-77-NG | Concord Energy LLC | Order 3849 granting blanket authority to import/export natural gas from/to Canada/Mexico.
3850 | 06/13/16 | 16-72-LNG | BP Energy Company | Order 3850 granting blanket authority to import LNG from various sources by vessel.
3851 | 06/16/16 | 16-79-NG | Union Gas Limited | Order 3851 granting blanket authority to import/export natural gas from/to Canada.
3852 | 06/16/16 | 16-80-NG | Concord Energy LLC | Order 3852 granting blanket authority to import/export natural gas from/to Canada.
3853 | 06/17/16 | 16-75-NG | Energy Source National Gas Inc | Order 3853 granting blanket authority to import/export natural gas from/to Canada.
3854 | 06/16/16 | 16-76-NG | St. Lawrence Gas Company, Inc | Order 3854 granting blanket authority to import natural gas from Canada.
3855 | 06/17/16 | 16-82-NG | J. Aron & Company | Order 3855 granting blanket authority to import/export natural gas from/to Canada/Mexico.
3856 | 06/17/16 | 16-81-NG | Infinite Energy, Inc | Order 3856 granting blanket authority to import/export natural gas from/to Canada.
3857 | 06/21/16 | 16-84-NG | Morgan Stanley Capital Group Inc | Order 3857 granting blanket authority to import/export natural gas from/to Canada/Mexico.

[FR Doc. 2016-17473 Filed 7-22-16; 8:45 am]

BILLING CODE 6450-01-P